DEPARTMENT OF COMMERCE

National Oceanic and Atmospheric Administration

[RTID 0648-XB600]

Caribbean Fishery Management Council; Public Meeting

AGENCY: National Marine Fisheries Service (NMFS), National Oceanic and Atmospheric Administration (NOAA), Commerce.

ACTION: Notice of public meeting (virtual).

SUMMARY: The Caribbean Fishery Management Council (CFMC) will hold the 176th hybrid (virtual/in person) public meeting to address the items contained in the tentative agenda included in the SUPPLEMENTARY INFORMATION.

DATES: The 176th CFMC hybrid (virtual/in person) public meeting will be held on December 7, 2021, from 9 a.m. to 5:15 p.m. AST, and on December 8, 2021, from 9 a.m. to 3:15 p.m. AST. The meeting will be held at the Courtyard by Marriott Isla Verde Beach Resort, 7012 Boca de Cangrejos Avenue, Carolina, Puerto Rico 00979.

ADDRESSES: You may join the 176th CFMC public meeting (virtual) via Zoom, from a computer, tablet or smartphone by entering the following address:

Join Zoom Meeting

https://us02web.zoom.us/j/83060685915?pwd=VmVsc1orSUtKck8xYk1XOXNDY1ErZz09

Meeting ID: 830 6068 5915

Passcode: 995658

One Tap Mobile

+17879451488,,83060685915#,,,,,,0#,,995658# Puerto Rico

+17879667727,,83060685915#,,,,,,0#,,995658# Puerto Rico

Dial by Your Location

+1 787 945 1488 Puerto Rico

+1 787 966 7727 Puerto Rico

+1 939 945 0244 Puerto Rico

Meeting ID: 830 6068 5915

Passcode: 995658

In case there are problems and we cannot reconnect via Zoom, the meeting will continue using GoToMeeting.

You can join the meeting from your computer, tablet or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

December 7, 2021

9 a.m.-9:45 a.m.

—Call to Order

—Roll Call

—Adoption of Agenda Consideration of 175th Council Meeting Verbatim Transcriptions

—Executive Director's Report

9:45 a.m.-10:45 a.m.

—Five-Year Strategic Plan Presentation for CFMC Final Action—Michelle Duval, CFMC Contractor

10:45 a.m.-11:45 a.m.

—DAP Chairs Reports on DAP Meetings (STT/STJ and PR) on Compatible Regulations

—St. Thomas/St. John, USVI—Julien Magras (30 minutes)

—Puerto Rico—Nelson Crespo (30 minutes)

11:45 a.m.-12 p.m.

—Discussion on Trawling Gear in Federal Waters

12 p.m.-1 p.m.

—Lunch Break

1 p.m.-1:30 p.m.

—Update on Progress for Life History of Shallow-Water Reef Fishes—Virginia Shervette

—Deep-Water Snapper Life History Update—Virginia Shervette

1:30 p.m.-2 p.m.

—Southeast Fisheries Science Center Update—Kevin McCarthy

—Report on Caribbean Projects Inventory

—Report on Species Selection for Assessments (SEDAR)

2:00 p.m.-2:30 p.m.

—Island-Based FMP Update—María López-Mercer, SERO/NOAA Fisheries

—Modification to the Buoy Gear Definition—María López-Mercer, SERO/NOAA Fisheries

2:30 p.m.-3 p.m.

—Timing of Red Hind Seasonal Closures in Puerto Rico Federal Waters—María López-Mercer, SERO/NOAA Fisheries

3 p.m.-3:10 p.m.

—Break

3:10 p.m.-3:40 p.m.

—Discussion of Sargassum Issues and Role as Essential Fish Habitat—SERO/NOAA Fisheries

3:40 p.m.-4:10 p.m.

—Discussion of Timing of Accountability Measures for Spiny Lobster in Puerto Rico—Sarah Stephenson, SERO/NOAA Fisheries

4:10 p.m.-4:30 p.m.

—PUBLIC COMMENT PERIOD (5-minute presentations)

4:30 p.m.

—Adjourn for the Day

4: 45 p.m.-5:15 p.m.

—Closed Session

December 8, 2021

9 a.m.-10 a.m.

—Outreach and Education Report—Alida Ortiz

—Social Media Report—Cristina Olán

10 a.m.-10:30 a.m.

—Reports by Liaison Officers (10 minutes each)

—St. Thomas/St. John, USVI—Nikole Greaux

—St. Croix, USVI—Mavel Maldonado

—Puerto Rico—Wilson Santiago

10:30 a.m.-11:30 a.m.

—Enforcement Issues (15 minutes each):

—Puerto Rico—DNER

—USVI—DPNR

—U.S. Coast Guard

—NMFS/NOAA

11:30 a.m.-12 p.m.

—Microplastics in the Caribbean Sea Project Report—Dalila Aldana

12 p.m.-1 p.m.

—Lunch Break

1 p.m.-1:30 p.m.

—Dolphinfish Research Program Update —Wessly Merten

1:30 p.m.-2 p.m.

—Deep-Water Squid Fishing—Marcos Hanke

2 p.m.-2:30 p.m.

—CFMC Advisory Bodies Membership

2:30 p.m.-2:45 p.m.

—Other Business

2:45 p.m.-3 p.m.

—PUBLIC COMMENT PERIOD (5 minutes presentation)

3 p.m.-3:15 p.m.

—Next CFMC Meetings in 2022

3:15 p.m.

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on December 7, 2021, at 9 a.m. AST, and will end on December 8, 2021, at 3:15 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

(Authority: 16 U.S.C. 1801 et seq.)

Dated: November 17, 2021.
Tracey L. Thompson,
Acting Deputy Director, Office of Sustainable Fisheries, National Marine Fisheries Service.

[FR Doc. 2021-25399 Filed 11-19-21; 8:45 am]

BILLING CODE 3510-22-P